ENVIRONMENTAL PROTECTION AGENCY

40 CFR Part 52

[EPA-R05-OAR-2018-0126; FRL-9989-32-Region 5]

Air Plan Approval; Indiana; Proposed Approval of a Revision to the Sulfur Dioxide State Implementation Plan for United States Steel-Gary Works

AGENCY: Environmental Protection Agency (EPA).

ACTION: Proposed rule.

SUMMARY: The Environmental Protection Agency (EPA) is proposing to approve a March 6, 2018 request by the Indiana Department of Environmental Management (IDEM) to revise its State Implementation Plan (SIP) for the United States Steel-Gary Works (US Steel-Gary Works). The proposed SIP revision pertains to the removal of all sulfur dioxide (SO2) emission limitations for the facility's coke plant, which permanently ceased operation on March 30, 2015, and other administrative changes. The SIP revision provides for an overall reduction in SO2 emissions at the facility.

DATES: Comments must be received on or before March 15, 2019.

ADDRESSES: Submit your comments, identified by Docket ID No. EPA-R05-OAR-2018-0126 at http://www.regulations.gov, or via email to blakley.pamela@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the “For Further Information Contact” section. For the full EPA public comment policy, information about CBI or multimedia submissions, and general guidance on making effective comments, please visit http://www2.epa.gov/dockets/commenting-epa-dockets.

FOR FURTHER INFORMATION CONTACT: Emily Crispell, Environmental Scientist, Control Strategies Section, Air Programs Branch (AR-18J), Environmental Protection Agency, Region 5, 77 West Jackson Boulevard, Chicago, Illinois 60604, (312) 353-8512, crispell.emily@epa.gov.

SUPPLEMENTARY INFORMATION: Throughout this document whenever “we,” “us,” or “our” is used, we mean EPA. This supplementary information section is arranged as follows:

I. Background

II. Summary of Changes to Existing Rule

III. Summary of 110(l) Analysis

IV. What action is EPA taking?

V. Incorporation by Reference

VI. Statutory and Executive Order Reviews

I. Background

US Steel-Gary Works is an integrated steel mill located in Gary, Indiana. On March 30, 2015, the facility permanently ceased the operation of its entire coke plant. The coke plant consisted of the coal handling facilities, coke oven batteries, coke byproducts recovery plant, coke oven desulfurization facility, and #2 coke plant boiler house.

IDEM amended 326 Indiana Administrative Code (326 IAC) 7-4.1-20 to remove SO2 emission limitations applicable to the coke plant. IDEM held a public hearing on October 11, 2017 and received one question regarding whether US Steel-Gary Works would be required to reapply for permits if they chose to reopen the coke plant facility. IDEM confirmed that US Steel-Gary Works would have to reapply for permits if they chose to reopen the coke plant.

IDEM adopted the revised rule on October 11, 2017, which became effective on February 21, 2018.

II. Summary of Changes to Existing Rule

The existing rule 326 IAC 7-4.1-20 contained the SO2 emission limitations for various emission units at US Steel-Gary Works, depending on the operation status of the coke oven gas desulfurization unit. The sole purpose of the coke oven gas desulfurization unit was to control coke oven gas emissions from the coke plant. IDEM revised 326 IAC 7-4.1-20 to remove all SO2 sources and emission limits associated with the coke plant. IDEM renumbered and retained the remainder of the rule which contains SO2 emission limitations for other operating units at the facility such as the turboblower boiler house units, number 4 boiler house units, blast furnace stove stacks, 84-inch hot strip mill units, number 3 sinter plant windbox gas cleaning systems, and baghouses.

III. Summary of 110(l) Analysis

According to Clean Air Act (CAA) Section 110(l), EPA cannot approve a revision of a SIP if the revision would interfere with any applicable requirement concerning attainment of the National Ambient Air Quality Standards and Reasonable Further Progress (as defined in Section 171 of the CAA). Indiana's submission is consistent with CAA Section 110(l) because the changes to the facility will result in a decrease in SO2 emissions in excess of 3792.2 tons per year.

IV. What action is EPA taking?

EPA is proposing to approve IDEM's March 6, 2018 submittal as a revision to its existing SIP for US Steel-Gary Works. EPA is requesting comments on the proposed approval.

V. Incorporation by Reference

In this document, EPA is proposing to include in a final EPA rule regulatory text that includes incorporation by reference. In accordance with requirements of 1 CFR 51.5, EPA is proposing to incorporate by reference revisions to Indiana rule 326 IAC 7-4.1-20 U.S. Steel-Gary Works Sulfur Dioxide Emission Limitations, effective on February 21, 2018. EPA has made, and will continue to make, these documents generally available through www.regulations.gov and at the EPA Region 5 Office (please contact the person identified in the “For Further Information Contact” section of this preamble for more information).

VI. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the Clean Air Act; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

List of Subjects in 40 CFR Part 52

Environmental protection, Air pollution control, Incorporation by reference, Intergovernmental relations, Reporting and recordkeeping requirements, Sulfur oxides.

Dated: December 21, 2018.
James O. Payne
Acting Regional Administrator, Region 5.

[FR Doc. 2019-02215 Filed 2-12-19; 8:45 am]

BILLING CODE 6560-50-P